ENVIRONMENTAL PROTECTION AGENCY

40 CFR Part 52

[PA-4118a; FRL-7045-7]

Approval and Promulgation of Air Quality Implementation Plans; Pennsylvania; VOC and NOX RACT Determinations for Nine Individual Sources in the Philadelphia-Wilmington-Trenton Area

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for 9 major sources of volatile organic compounds (VOC) and/or nitrogen oxides ( NOX). These sources are located in the Philadelphia-Wilmington-Trenton ozone nonattainment area (the Philadelphia area). EPA is approving these revisions to establish RACT requirements in the SIP in accordance with the Clean Air Act (CAA).

DATES: This rule is effective on October 15, 2001 without further notice, unless EPA receives adverse written comment by October 1, 2001. If EPA receives such comments, it will publish a timely withdrawal of the direct final rule in the Federal Register and inform the public that the rule will not take effect.

ADDRESSES: Written comments should be mailed to David L. Arnold, Chief, Air Quality Planning & Information Services Branch, Air Protection Division, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW., Washington, DC 20460; and the Pennsylvania Department of Environmental Protection, Bureau of Air Quality Control, P.O. Box 8468, 400 Market Street, Harrisburg, Pennsylvania 17105.

FOR FURTHER INFORMATION CONTACT: Melik Spain at (215) 814-2299, the EPA Region III address above or by e-mail at spain.melik@epa.gov. Please note that while questions may be posed via telephone and e-mail, formal comments must be submitted, in writing, as indicated in the ADDRESSES section of this document.

SUPPLEMENTARY INFORMATION:

I. Background

Pursuant to sections 182(b)(2) and 182(f) of the Clean Air Act (CAA), the Commonwealth of Pennsylvania (the Commonwealth or Pennsylvania) is required to establish and implement RACT for all major VOC and NOX sources. The major source size is determined by its location, the classification of that area and whether it is located in the ozone transport region (OTR). Under section 184 of the CAA, RACT as specified in sections 182(b)(2) and 182(f)) applies throughout the OTR. The entire Commonwealth is located within the OTR. Therefore, RACT is applicable statewide in Pennsylvania.

State implementation plan revisions imposing reasonably available control technology (RACT) for three classes of VOC sources are required under section 182(b)(2). The categories are: (1) All sources covered by a Control Technique Guideline (CTG) document issued between November 15, 1990 and the date of attainment; (2) All sources covered by a CTG issued prior to November 15, 1990; (3) All other major non-CTG rules were due by November 15, 1992. The Pennsylvania SIP has approved RACT regulations and requirements for all sources and source categories covered by the CTG's.

On February 4, 1994, PADEP submitted a revision to its SIP to require major sources of NOX and additional major sources of VOC emissions (not covered by a CTG) to implement RACT. The February 4, 1994 submittal was amended on May 3, 1994 to correct and clarify certain presumptive NOX RACT requirements. In the Philadelphia area, a major source of VOC is defined as one having the potential to emit 25 tons per year (tpy) or more, and a major source of NOX is also defined as one having the potential to emit 25 tpy or more. Pennsylvania's RACT regulations require sources, in the Philadelphia area, that have the potential to emit 25 tpy or more of VOC and sources which have the potential to emit 25 tpy or more of NOX comply with RACT by May 31, 1995. The regulations contain technology-based or operational “presumptive RACT emission limitations” for certain major NOX sources. For other major NOX sources, and all major non-CTG VOC sources (not otherwise already subject to RACT under the Pennsylvania SIP), the regulations contain a “generic” RACT provision. A generic RACT regulation is one that does not, itself, specifically define RACT for a source or source categories but instead allows for case-by-case RACT determinations. The generic provisions of Pennsylvania's regulations allow for PADEP to make case-by case RACT determinations that are then to be submitted to EPA as revisions to the Pennsylvania SIP.

On March 23, 1998 EPA granted conditional limited approval to the Commonwealth's generic VOC and NOX RACT regulations (63 FR 13789). In that action, EPA stated that the conditions of its approval would be satisfied once the Commonwealth either (1) Certifies that it has submitted case-by-case RACT proposals for all sources subject to the RACT requirements currently known to PADEP; or (2) demonstrate that the emissions from any remaining subject sources represent a de minimis level of emissions as defined in the March 23, 1998 rulemaking. On April 22, 1999, PADEP made the required submittal to EPA certifying that it had met the terms and conditions imposed by EPA in its March 23, 1998 conditional limited approval of its VOC and NOX RACT regulations by submitting 485 case-by-case VOC/NOX RACT determinations as SIP revisions and making the demonstration described as condition 2, above. EPA determined that Pennsylvania's April 22, 1999 submittal satisfied the conditions imposed in its conditional limited approval published on March 23, 1998. On May 3, 2001 (66 FR 22123), EPA published a rulemaking action removing the conditional status of its approval of the Commonwealth's generic VOC and NOX RACT regulations on a statewide basis. The regulation currently retains its limited approval status in the Philadelphia area. Once EPA has approved the case-by-case RACT determinations submitted by PADEP to satisfy the conditional approval for subject sources located in Bucks, Chester, Delaware, Montgomery and Philadelphia Counties; the limited approval of Pennsylvania's generic VOC and NOX RACT regulations shall convert to a full approval for the Philadelphia area.

It must be noted that the Commonwealth has adopted and is implementing additional “post RACT requirements” to reduce seasonal NOX emissions in the form of a NOX cap and trade regulation, 25 Pa Code Chapters 121 and 123, based upon a model rule developed by the States in the OTR. That rule's compliance date is May 1999. That regulation was approved as SIP revision on June 6, 2000 (65 FR 35842). Pennsylvania has also adopted regulations to satisfy Phase I of the NOX SIP call and submitted those regulations to EPA for SIP approval. Pennsylvania's SIP revision to address the requirements of the NOX SIP Call Phase I consists of the adoption of Chapter 145—Interstate Pollution Transport Reduction and amendments to Chapter 123—Standards for Contaminants. On May 29, 2001 (66 FR 29064), EPA proposed approval of the Commonwealth's NOX SIP call rule SIP submittal. On August 10, 2001, EPA signed the final rulemaking and expects it to be published in the Federal Register in the near future. Federal approval of a case-by-case RACT determination for a major source of NOX in no way relieves that source from any applicable requirements found in 25 PA Code Chapters 121, 123 and 145.

II. Summary of the SIP Revisions

On April 16, 1996, June 10, 1996, November 4, 1997, December 31, 1997, March 24, 1998, March 23, 2001, and August 8, 2001, PADEP submitted revisions to the Pennsylvania SIP which establish and impose RACT for several sources of VOC and/or NOX. This rulemaking pertains to the 9 of those sources. The remaining sources are or have been the subject of separate rulemakings. The Commonwealth's submittals consist of plan approvals and operating permits ) which impose VOC and/or NOX RACT requirements for each source. These sources are all located in the Philadelphia area. The table below identifies the sources and the individual plan approvals (PAs) and operating permits (OPs) which are the subject of this rulemaking. A summary of the VOC and NOX RACT determinations for each source follows the table.

Pennsylvania—VOC and NOX RACT Determinations for Individual Sources
Source | County | Plan Approval (PA #) Operating Permit (OP #) | Source type | “Major source” pollutant
1. Jefferson Smurfit Corporation and Container Corporation of America | Philadelphia | PA-51-1566 | Industrial Boilers | NOX
2. Maritank Philadelphia, Inc | Philadelphia | PA-51-5013 | Bulk Storage | VOC/NOX
3. Moyer Packing Company | Montgomery | OP-46-0001 | Industrial Boilers | NOX
4. PECO Energy Company | Bucks | OP-09-0077 | Synthetic Gas Combustion | NOX
5. Exelon Generation Company—Schuylkill Generating Station | Philadelphia | PA-51-4904 | Utility | VOC/NOX
6. Exelon Generation Company—Delaware Generating Station | Philadelphia | PA-51-4901 | Utility | VOC/NOX
7. Philadelphia Gas Works, Richmond Plant | Philadelphia | PA-51-4922 | Utility | NOX
8. SPS Technologies | Montgomery | OP-46-0032 | Metal Machining | VOC/NOX
9. Tullytown Resource Recovery Facility (Waste Management of PA, Inc.) | Bucks | OP-09-0024 | Landfill | VOC/NOX

A. Jefferson Smurfit Corporation and Container Corporation of America

Jefferson Smurfit Corporation and Container Corporation of America (JSC) owns and operates a box board manufacturing facility in Philadelphia, Pennsylvania. This source is a major NOX emitting facility. The facility is not a major source of VOC. There are 2 boilers (Boilers No. 1 and No. 2) in operation at the facility that are affected by the Commonwealth's NOX RACT requirements of 25 Pa Code 129.92. Boilers No. 1 and 2 have heat capacities of 240 million British thermal units per hour (MMBtu/hr) and 225 MMBtu/hr, respectively. Both of the boilers burn pulverized coal as their primary fuel, and No. 6 fuel oil and natural gas as backup fuels. To establish NOX RACT, the Philadelphia Air Management Services (AMS) issued PA-51-1566 to JSC. PADEP submitted it to EPA as a SIP revision on behalf of AMS. AMS determined that NOX RACT for JSC's Boilers No.1 and No. 2 is compliance with the Commonwealth's presumptive NOX RACT requirements of 25 Pa Code 129.93(b)(1), which requires the installation and operation of low NOX burners (LNB) with separate overfire air for coal fired combustion, rated at or above 100 MMBtu/hr. PA-51-1566 requires these boilers to use LNB with separate overfire air when burning No. 6 fuel and natural gas. PA-51-1566 imposes NOX emission limits that are never to exceed 0.50 pounds per MMBtu (lbs/MMBtu), per 30-day rolling average when burning coal, 0.30 lbs/MMBtu when burning No. 6 oil or 0.20 lbs/MMBtu when burning natural gas for both boilers combined. PA-51-1566 also requires the installation and maintenance of a continuous emissions monitoring system (CEMS). JSC must keep all records containing data and calculations necessary to determine compliance with the RACT requirements of 25 Pa Code 129.91-129.94. All process equipment and associated air pollution control devices must be maintained and operated in accordance with good air pollution engineering and air pollution control practices.

B. Maritank Philadelphia, Inc.

Maritank Philadelphia, Incorporated (Maritank) is a liquid storage facility located in Philadelphia, Pennsylvania. To establish VOC and NOX RACT, AMS issued PA-51-5013, and PADEP submitted it to EPA as a SIP revision. The majority of the process units at this facility are subject to the Commonwealth's presumptive VOC and/or NOX RACT regulations of 25 Pa Code 129.51-129.72 and 129.91-129.95. The facility stores and distributes petroleum products. These products are loaded and unloaded from barge to storage tanks and trucks. Maritank also conducts barge cleaning activities to remove residual material from the empty barges. VOC emissions from the barge cleaning plant vacuuming operations are controlled with a vacuuming incinerator. This incinerator along with a boiler rated at 7 MMBtu/hr will comply with the NOX RACT requirements of 25 Pa Code 129.93(c)(1). Maritank has one other boiler with a capacity of 30 MMBtu/hr, which is subject to the NOX RACT requirements of 25 Pa Code 129.93(c)(2)-(5). The fugitive VOC emissions from the truck loading rack are collected and controlled via a vapor incinerator. AMS determined that VOC RACT for Maritank's fugitive emissions is the implementation of a visual leak detection and repair (LDAR) program for all pumps, valves, and flanges at the facility. Maritank also conducts shore tank cleaning activities to remove residual material from its tanks. The residual products contained within the washwater produced in the washing of the tanks is separated and recovered by a washwater treatment system. The washwater treatment system treats its waste water with 2 separate oil/water separators coupled with carbon absorption. PA-51-5013 requires that their 5 recovery tanks be connected to the current vapor collection system. The PA specifies that gasoline loading at the dock transfer station must be discontinued. Maritank is required to keep records containing details of inspections and repairs and other data necessary to determine compliance with the RACT requirements of 25 Pa Code 129.91-129.94 and PA-51-5013. All process equipment and associated air pollution control devices must be maintained and operated in accordance with good air pollution engineering and air pollution control practices.

C. Moyer Packing Company

Moyer Packing Company, Incorporated (Moyer) operates a rendering facility in Montgomery County, Pennsylvania. Moyer generates steam using 2 Keeler boilers that are rated at 56.4 MMBtu/hr each. The Keeler boilers fire No. 6 fuel oil. These boilers' potential emissions classify Moyer as a major stationary source of NOX emissions, and therefore subject to the Commonwealth's NOX RACT requirements of 25 Pa Code 129.92. The boilers were the only sources at this facility subject to case-by-case NOX RACT. Moyer is not a major emitter of VOCs. PADEP issued OP-46-0001 and submitted it as a revision to the SIP. OP 46-0001 imposes a NOX emission limit of 0.37 lbs/MMBtu for each of the 2 Keeler boilers as NOX RACT. The boilers will be tuned to operate using low excess oxygen and will be operated in accordance with the manufacturer's specifications and with good engineering and air pollution control practices. Moyer is required to keep records of fuel usage, NOX emissions, and data sufficient to determine compliance with the conditions of the OP. All process equipment and associated air pollution control devices must be maintained and operated in accordance with good air pollution engineering and air pollution control practices.

D. PECO Energy Company

The PECO Energy Company (PECO) produces power using 2 turbines at their Pennsbury Power Production Plant located in Bucks County, Pennsylvania. The 2 turbines are fueled by landfill gas. The landfill gas is generated by the decomposition of refuse at the adjacent landfill owned and operated by the Geological Reclamation Operations and Waste Systems, Incorporated (GROWS). Approximately 90% of the landfill gas produced at the landfill is collected by GROWS and is sent offsite through a pipeline. The majority of the gas is used as fuel for PECO's turbines. The PADEP issued OP-09-0077 to impose RACT for these turbines. The 2 landfill gas-fired turbines are rated at 42 MMBtu/hr each. OP-09-0077 requires the turbines meet a minimum destruction efficiency of 98% (by weight) of the landfill gas collected, and a 20 parts per million by volume (ppmv) VOC emissions limit, measured on a dry basis as hexane at 3% oxygen. The NOX emissions expressed as nitrogen dioxide will never exceed 42 ppmv at 15% oxygen measured on a dry basis for the 2 turbines. OP-09-0077 specifies that the landfill gas will be analyzed by an on-line process gas chromatograph to determine its nitrogen content. The OP requires that PECO perform annual tune-ups on the turbines in accordance with 25 Pa Code 129.93. OP-09-0077 requires PECO to keep records containing data that is sufficient to determine compliance with the RACT requirements of 25 Pa Code 129.91-129.92. All process equipment and associated air pollution control devices must be maintained and operated in accordance with good air pollution engineering and air pollution control practices.

E. Exelon Generation Company—Schuylkill Generating Station

The Exelon Generation Company—Schuylkill Station (Exelon, formerly known as PECO Energy) is an electric utility located in Philadelphia, Pennsylvania. The Schuylkill Generating Station operates one tangentially-fired Combustion Engineering utility boiler rated at 1658 MMBtu/hr, firing No. 6 oil. This boiler has a net electric output capacity of 166 megawatts (MW), based on summer peak output, and a 175 MW winter peak output. The facility also operates one Pratt & Whitney model FT4A8 combustion turbine and one Pratt & Whitney model FT4A9 combustion turbine. Both combustion turbines burn No. 2 oil and have nominal outputs of 15.5 MW and 17.5 MW, respectively. To establish NOX RACT, AMS issued PA-51-4904 to Exelon, and PADEP submitted it to EPA as a SIP revision. PA-51-4904 imposes NOX emissions limits of 0.31 lbs NOX per MMBtu and an annual limit of 673 tpy. PA-51-4904 limits the capacity of each turbine to less than 5%. The annual NOX emissions limit and the 5% limit on the operating capacity must be met on a rolling monthly basis over every consecutive 12 month period. PA-51-4904 also requires an annual adjustment on the combustion process as required by 25 Pa Code 129.93(b)(2)-(5). PA-51-4904 requires Exelon's peaking unit to comply with the parametric monitoring system (PEMS) requirements in accordance with 40 CFR part 75, Appendix E. These requirements quantify the NOX emissions in lbs of NOX/MMBtu and the NOX emissions mass flow rate to demonstrate compliance with the annual emissions rate established as a part of NOX RACT for the utility boiler. PA-51-4904 also requires Exelon keep records containing data that is sufficient to determine compliance with the RACT requirements of 25 Pa Code 129.91-129.94. All process equipment and associated air pollution control devices must be maintained and operated in accordance with good air pollution engineering and air pollution control practices.

F. Exelon Generation Company—Delaware Generating Station

Exelon's Delaware Generating Station is an electric utility located in Philadelphia, Pennsylvania. This facility operates 2 Babcock and Wilcox boilers (identified as units No. 71 and No. 81) which burn No. 6 oil and have nominal outputs of 126 MW and 124 MW, respectively, based on summer peak output capacity levels. Each boiler has a net electrical winter peak output capacity of 128 MW. This facility also operates one Babcock and Wilcox auxiliary boiler rated at 42 MMBtu/hr, which burns No. 2 oil and No. 6 oil, 3 Pratt & Whitney model FT4A8 combustion turbines rated at 15.5 MW and one model FT4A9 combustion turbine rated 17.5 MW. The combustion turbines burn No. 2 oil. To establish NOX RACT, AMS issued PA-51-4901 to Exelon, and PADEP submitted it to EPA as a SIP revision. PA-51-4901 imposes a NOX emissions limit of 645 tpy for boiler No. 71 and 595 tpy for boiler No. 81. The annual limits must be met on a rolling monthly basis over every consecutive 12 month period. PA-51-4901 also imposes short-term NOX emission limits of 0.43 lbs/MMBtu and 0.42 lbs/MMBtu on a 30 day rolling average for Boilers No. 71 and No. 81, respectively. Additionally, Boilers No. 71 and 81 will operate under limited capacity values of 548 MMBtu/hr and 570 MMBtu/hr, respectively. The PA limits the capacity of each turbine to less than 5%. The capacity factor limit must be met on a rolling monthly basis over every consecutive 12 month period. NOX RACT for the boilers at Exelon's Delaware Generating Station include an annual adjustment on the combustion process as required by 25 Pa Code 129.93(b)(2)-(5). The auxiliary boiler and the turbines will comply with the presumptive RACT found in 25 Pa Code § 129.93(b)-(c). PA-51-4901 also requires Exelon's peaking units to comply with the PEMS requirements in accordance with 40 CFR part 75, Appendix E. These requirements quantify the NOX emissions in lbs of NOX/MMBtu and the NOX emissions mass flow rate to demonstrate compliance with the annual emissions rates established as a part of NOX RACT for these boilers. PA-51-4901 also requires Exelon keep records of data sufficient to determine compliance with the RACT requirements of 25 Pa Code 129.91-129.94 and PA-51-4901. All process equipment and associated air pollution control devices must be maintained and operated in accordance with good air pollution engineering and air pollution control practices.

G. Philadelphia Gas Works, Richmond Plant

Philadelphia Gas Works (PGW) is a municipally owned gas distribution company located in Philadelphia, Pennsylvania. The PGW Richmond Plant liquefies natural gas during the summer months for storage and distribution during the winter months. The liquefaction process involves pre-treatment and compression of a gas into a liquid. This facility uses 4 natural gas fired internal combustion (IC) engines to drive the ethylene and propane refrigeration compressors. These engines are 2-stroke, spark ignited, Clark HLA-8 units that have been converted to turbocharged units rated at 2,350 horsepower. The PGW Richmond Plant is a major NOX emitting facility. The facility is not a major source of VOCs. The AMS issued PA-51-4922 to PGW and PADEP submitted it to EPA as a SIP revision. AMS imposes NOX RACT on PGW's 4 IC engines in PA-51-4922. The engines must be retrofitted with new high energy ignition systems and AFR controls, along with an enhanced turbocharged air system and new fuel valves. PA-51-4922 imposes annual limits on natural gas consumption of 570 million cubic feet (MMCF) for the 4 IC engines. The annual fuel consumption limits must be met on a rolling monthly basis over every consecutive 12 month period. The NOX emissions limits for each of these 4 units is 5 grams per brake horsepower-hour, 25.9 pounds per hour (lbs/hr), and 320 tons per 12 consecutive month rolling period. The use of sophisticated ignition systems results in precise setting of engine timing. The use of timing controls lowers NOX emissions by lowering the time interval that exhaust gases are exposed to high temperatures. Controlling the air-to-fuel ratio provides a cleaner burning, lean fuel mixture. The turbochargers provide the air for leaner operation, while the new high flow fuel valves ensure an improved air-to-fuel mixing in the cylinder for a leaner burn which improves combustion stability and efficiency. PA-51-4922 requires PGW to conduct a performance test on the engines once every 5 years to demonstrate compliance with RACT. PA-51-4922 requires PGW to keep records of data sufficient to determine compliance with the RACT requirements of 25 Pa Code 129.91-129.94. All process equipment and associated air pollution control devices must be maintained and operated in accordance with good air pollution engineering and air pollution control practices.

H. SPS Technologies

SPS Technologies, Incorporated (SPS) manufactures high strength bolts, nuts and screws, and various other precision components for commercial and military aircrafts, jet engines and Space Shuttles. SPS' manufacturing operations involve machining activities, metal parts electroplating, cleaning, degreasing, and heat treating of finished metal products. SPS' machining operations and bucket cleaning activities emit fugitive VOCs and are the only VOC sources at this facility subject to case-by-case RACT. The NOX sources in use at this facility are all subject to SIP-approved presumptive NOX RACT regulations. Fugitive VOC emissions from the machining operations come from mist generated while using VOC-containing lubricants. Oil must be used in these processes to lubricate the interface between the machining tools and the metal surfaces. The facility uses 71 buckets containing kerosene to dip clean metal parts during manufacturing and inspection. These buckets are a source of fugitive emissions and were also subject to a top-down VOC RACT analysis. OP-46-0032 establishes emission limits for these cleaning activities requiring that VOC must never exceed 3.0 lbs/hr, 15 pounds per day, or 2.7 tpy. All process equipment and associated air pollution control devices must be maintained and operated in accordance with good air pollution engineering and air pollution control practices.

I. Tullytown Resource Recovery Facility (Waste Management of PA Inc.)

Waste Management of Pennsylvania, Incorporated owns and operates an active landfill called Tullytown Resource Recovery Facility (TRRF) located in Bucks County, Pennsylvania. The waste deposited at this site undergoes anaerobic degradation and produces gaseous VOC emissions. The landfill uses an enclosed flare to control these VOC emissions. The flare is a secondary source of NOX emissions. PADEP issued OP-09-0024 to TRRF. The OP defines RACT as collection of the landfill gas and destruction using an enclosed flare. The collection efficiency must be 90% or greater. The flare must be operated at a destruction efficiency of 98%. The VOC emissions from the enclosed flare must be limited to 0.84 lbs/hr and 3.69 tpy. NOX emissions from the enclosed flare must be limited to 8.87 lbs/hr and 38.85 tpy. All annual limits must be met on a rolling monthly basis over every consecutive 12 month period. The flow rate of landfill gas to the flare will never exceed 3250 scfm. The flare must be operated at a minimum of 1500 degrees F for a minimum residence time of 0.3 seconds. The flare shall be operated to minimize NOX production while maximizing the VOC destruction. TRRF is required to keep all records of annual inspections, adjustments and cleanings performed on the fuel-burning equipment. These records must provide sufficient data for compliance to be determined in accordance with 25 Pa Code 129.91-129.94. All process equipment and associated air pollution control devices must be maintained and operated in accordance with good air pollution engineering and air pollution control practices.

III. EPA's Evaluation of Pennsylvania's SIP Revisions

EPA is approving Pennsylvania's RACT SIP submittals because AMS and PADEP established and imposed these RACT requirements in accordance with the criteria set forth in the SIP-approved RACT regulations applicable to these sources. They have also imposed recordkeeping, monitoring, and testing requirements on these sources sufficient to determine compliance with the applicable RACT determinations.

IV. Final Action

EPA is approving the SIP revisions to the Pennsylvania SIP submitted by PADEP to establish and require VOC and NOX RACT for 9 major sources located in the Philadelphia area. EPA is publishing this rule without prior proposal because the Agency views this as a noncontroversial amendment and anticipates no adverse comment. However, in the “Proposed Rules” section of today's Federal Register, EPA is publishing a separate document that will serve as the proposal to approve the SIP revision if adverse comments are filed. This rule will be effective on October 15, 2001 without further notice unless EPA receives adverse comment by October 1, 2001. If EPA receives adverse comment, EPA will publish a timely withdrawal in the Federal Register informing the public that the rule will not take effect. EPA will address all public comments in a subsequent final rule based on the proposed rule. EPA will not institute a second comment period on this action. Any parties interested in commenting must do so at this time. Please note that if adverse comment is received for a specific source or subset of sources covered by an amendment, section or paragraph of this rule, only that amendment, section, or paragraph for that source or subset of sources will be withdrawn.

V. Administrative Requirements

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use.” See 66 FR 28355, May 22, 2001. This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a Federal standard, and does not alter the relationship or the distribution of power and responsibilities established in the Clean Air Act. This rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for nine named sources.

C. Petitions for Judicial Review

Under section 307(b)(1) of the Clean Air Act, petitions for judicial review of this action must be filed in the United States Court of Appeals for the appropriate circuit by October 30, 2001. Filing a petition for reconsideration by the Administrator of this final rule does not affect the finality of this rule for the purposes of judicial review nor does it extend the time within which a petition for judicial review may be filed, and shall not postpone the effectiveness of such rule or action. This action approving the Commonwealth's source-specific RACT requirements to control VOC and NOX from 9 individual sources located in the Philadelphia ozone nonattainment area may not be challenged later in proceedings to enforce its requirements. (See section 307(b)(2).)

List of Subjects in 40 CFR Part 52

Environmental protection, Air pollution control, Hydrocarbons, Incorporation by reference, Nitrogen dioxide, Ozone, Reporting and recordkeeping requirements.

Dated: August 21, 2001.
Abraham Ferdas,
Acting Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(184) to read as follows:

§ 52.2020 Identification of plan.

* * * * *

(c) * * *

(184) Revisions to the Pennsylvania Regulations, Chapter 129 pertaining to VOC and NOX RACT, for sources located in the Philadelphia area submitted by the Pennsylvania Department of Environmental Protection on April 16, 1996, June 10, 1996, November 4, 1997, December 31, 1997, March 24, 1998, March 23, 2001, and August 8, 2001.

(i) Incorporation by reference.

(A) Letters submitted by the Pennsylvania Department of Environmental Protection transmitting source-specific VOC and/or NOX RACT determinations, in the form of plan approvals and operating permits on April 16, 1996, June 10, 1996, November 4, 1997, December 31, 1997, March 24, 1998, March 23, 2001, and August 8, 2001.

(B) Plan approvals (PA), or Operating Permits (OP) issued to the following sources:

(1) Jefferson Smurfit Corporation and Container Corporation of America, PA-51-1566, for PLID 1566, effective April 10, 1995.

(2) Maritank Philadelphia, Inc., PA-51-5013, for PLID 5013, effective December 28, 1995.

(3) Moyer Packing Company, OP-46-0001, effective March 15, 1996, except for the expiration date.

(4) Tullytown Resource Recovery Facility (Waste Management of PA, Inc.), OP-09-0024, effective July 14, 1997, except for the expiration date.

(5) SPS Technologies, OP-46-0032, effective October 30, 1997, except for the expiration date.

(6) PECO Energy Company, OP-09-0077, effective December 19, 1997, except for the expiration date.

(7) Philadelphia Gas Works, Richmond Plant, PA-51-4922, effective July 27, 1999, except for condition 1.A. 10—17, inclusive, condition 2.E., 2.F., 2.G., and condition 8.

(8) Exelon Generation Company—Delaware Generating Station, PA-51-4901, effective July 11, 2001.

(9) Exelon Generation Company—Schuylkill Generating Station, PA-51-4904, effective July 11, 2001.

(ii) Additional Materials—Other materials submitted by the Commonwealth of Pennsylvania in support of and pertaining to the RACT determinations for the sources listed in paragraph (c)(184) (i)(B) of this section.

[FR Doc. 01-22006 Filed 8-30-01; 8:45 am]

BILLING CODE 6560-50-P